DEPARTMENT OF ENERGY

[GDO Docket No. EA-520]

Application for Authorization To Export Electric Energy; XTS LLC

AGENCY: Grid Deployment Office, Department of Energy.

ACTION: Notice of application.

SUMMARY: XTS LLC (the Applicant or XTS) has applied for authorization to transmit electric energy from the United States to Mexico pursuant to the Federal Power Act.

DATES: Comments, protests, or motions to intervene must be submitted on or before January 21, 2025.

ADDRESSES: Comments, protests, motions to intervene, or requests for more information should be addressed by electronic mail to Electricity.Exports@hq.doe.gov.

FOR FURTHER INFORMATION CONTACT: Janessa Zucchetto, (240) 474-8226, Electricity.Exports@hq.doe.gov.

SUPPLEMENTARY INFORMATION: The United States Department of Energy (DOE) regulates electricity exports from the United States to foreign countries in accordance with section 202(e) of the Federal Power Act (FPA) (16 U.S.C. 824a(e)) and regulations thereunder (10 CFR 205.300 et seq.). Sections 301(b) and 402(f) of the DOE Organization Act (42 U.S.C. 7151(b) and 7172(f)) transferred this regulatory authority, previously exercised by the now-defunct Federal Power Commission, to DOE.

Section 202(e) of the FPA provides that an entity which seeks to export electricity must obtain an order from DOE authorizing that export (16 U.S.C. 824a(e)). On April 10, 2023, the authority to issue such orders was delegated to the DOE's Grid Deployment Office (GDO) under Redelegation Order No. S3-DEL-GD1-2023.

On November 19, 2024, XTS filed an application for authorization to transmit electric energy from the United States to Mexico for a term of five years. App. at 1.

According to the Application, XTS is a power marketer “authorized to do business in the State of Texas as a limited liability company that participates in the Electric Reliability Council of Texas[.]” Id. XTS states that it purchases and sells electricity and ancillary services to customers. Id. The Applicant has applied for Federal Energy Regulatory Commission (FERC) market-based rate authority and “will obtain any and all other regulatory approvals required in order to carry out any electricity exports.” Id. at 4 & Attachment 2.

The Applicant states it “does not currently own or control electric generation or transmission facilities and does not have a power supply of its own in the United States that would cause its electricity exports to have a reliability, fuel use, or system stability impact.” App. at 3. XTS represents that it “will purchase the electricity that it may export, on either a firm or an interruptible basis, from wholesale generators, electric utilities, federal power marketing agencies, and affiliates through negotiated agreements that have been voluntarily executed by the selling parties after considering their own need for any such electricity.” Id. at 3. XTS asserts its transactions will comply with all North American Reliability Corporation requirements and the export limits imposed by DOE. See id. at 4. For these reasons, XTS states that its “proposed electricity exports will not impair or tend to impede the sufficiency of electric power supplies in the United States or the regional coordination of electric utility planning or operations.” Id.

The existing international transmission facilities to be utilized by the Applicant have been previously authorized by Presidential permits issued pursuant to Executive Order 10485, as amended, and are appropriate for open access transmission by third parties. See App. at Exhibit C.

Procedural Matters: Any person desiring to be heard in this proceeding should file a comment or protest to the Application at Electricity.Exports@hq.doe.gov. Protests should be filed in accordance with Rule 211 of FERC's Rules of Practice and Procedure (18 CFR 385.211). Any person desiring to become a party to this proceeding should file a motion to intervene at Electricity.Exports@hq.doe.gov in accordance with FERC Rule 214 (18 CFR 385.214).

Comments and other filings concerning XTS's Application should be clearly marked with GDO Docket No. EA-520. Additional copies are to be provided directly to Pedro Escudero y Ramirez de Arellano, XTS LLC, Javier Barros Sierra, 540 Park Plaza I Piso 1, Alvaro Obregon, CDMX, Mexico 01210, escuderop@xiix.mx, and Frederick Jauss IV, Husch Blackwell LLP, 1801 Pennsylvania Avenue NW, Suite 1000, Washington, DC 20006, fred.jauss@huschblackwell.com.

A final decision will be made on the requested authorization after the environmental impacts have been evaluated pursuant to DOE's National Environmental Policy Act Implementing Procedures (10 CFR part 1021) and after DOE evaluates whether the proposed action will have an adverse impact on the sufficiency of supply or reliability of the United States electric power supply system.

Copies of this Application will be made available, upon request, by accessing the program website at https://www.energy.gov/gdo/pending-applications-0 or by emailing Electricity.Exports@hq.doe.gov.

Signing Authority: This document of the Department of Energy was signed on December 13, 2024, by Maria Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on December 16, 2024.
Treena V. Garrett,
Federal Register Liaison Officer, U.S. Department of Energy.

[FR Doc. 2024-30219 Filed 12-18-24; 8:45 am]

BILLING CODE 6450-01-P